DEPARTMENT OF STATE

[Public Notice 9407]

Review of Foreign Terrorist Organizations Designation for Liberation Tigers of Tamil Eelam

Pursuant to section 219(a)(4)(C) of the Immigration and Nationality Act, as amended (8 U.S.C. 1189(a)(4)(C)), the Department of State is undertaking a review of the designation of the Liberation Tigers of Tamil Eelam as a Foreign Terrorist Organization. In making its determination, the Department of State will accept a written statement or other documentary materials submitted on behalf of interested parties and the above-named organization by its representatives. Such materials must be submitted February 1, 2016, to: The Coordinator for Counterterrorism, United States Department of State, 2201 C Street NW., Washington, DC 20520.

This notice shall be published in the Federal Register.

Dated: January 7, 2016.
Tina Kaidanow,
Coordinator for Counterterrorism.

[FR Doc. 2016-00615 Filed 1-13-16; 8:45 am]

BILLING CODE 4710-AD-P